DEPARTMENT OF DEFENSE

Department of the Army

[Docket ID: USA-2019-HQ-0006]

Submission for OMB Review; Comment Request

AGENCY: U.S. Army Corps of Engineers, Department of Defense (DoD).

ACTION: 30-Day information collection notice.

SUMMARY: The Department of Defense has submitted to OMB for clearance the following proposal for collection of information under the provisions of the Paperwork Reduction Act.

DATES: Consideration will be given to all comments received by July 30, 2020.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Angela James, 571-372-7574, or whs.mc-alex.esd.mbx.dd-dod-information-collections@mail.mil.

SUPPLEMENTARY INFORMATION:

Title; Associated Form; and OMB Number: Corps Water Infrastructure Financing Program (CWIFP) Preliminary Application and Application; OMB Control Number 0710-XXXX.

Type of Request: New.

Number of Respondents: 15.

Responses per Respondent: 1.

Annual Responses: 15.

Average Burden per Response: 3.33 hours.

Annual Burden Hours: 50.

Needs and Uses: The Preliminary Application information collection requirement is necessary to (1) validate the eligibility of the prospective borrower and the proposed project, (2) perform a preliminary creditworthiness assessment, (3) perform a preliminary engineering and environmental feasibility assessment, and (4) evaluate the project against the selection criteria and identify which projects U.S. Army Corps of Engineers (USACE) will invite to submit applications. The Preliminary Application addresses the CWIFP eligibility criteria, CWIFP selection criteria, and identifies other specific information that must be provided to USACE to be considered for credit assistance. The Preliminary Application provides USACE with sufficient information to make a project selection and invite prospective borrowers to submit applications. Based on evaluation of the Preliminary Application, USACE will invite to submit an Application only those eligible projects that it expects to proceed to closing. Only those entities who are invited by USACE to submit an Application should proceed with the Application process. The Application provides USACE with information to assess the creditworthiness of both the applicant and project, identify the project's engineering and financial risk, negotiate the terms and conditions of the credit assistance, and calculate the amount of budget authority that will be needed to fund the project(s).

Affected Public: Individuals or households.

Frequency: On occasion.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Ms. Angela James.

Requests for copies of the information collection proposal should be sent to Ms. James at whs.mc-alex.esd.mbx.dd-dod-information-collections@mail.mil.

Dated: June 25, 2020.
Aaron T. Siegel,
Alternate OSD Federal Register Liaison Officer, Department of Defense.

[FR Doc. 2020-14084 Filed 6-29-20; 8:45 am]

BILLING CODE 5001-06-P